FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than April 26, 2021.

A. Federal Reserve Bank of St. Louis (Holly A. Rieser, Manager) P.O. Box 442, St. Louis, Missouri 63166-2034. Comments can also be sent electronically to Comments.applications@stls.frb.org:

1. Ricky L. Williams, Bardwell, Kentucky; to retain voting shares of Carlisle Bancorp, Inc., and thereby indirectly retain voting shares of Citizens Deposit Bank of Arlington, Inc., both of Arlington, Kentucky.

B. Federal Reserve Bank of Dallas (Robert L. Triplett III, Senior Vice President) 2200 North Pearl Street, Dallas, Texas 75201-2272:

1. The 2012 Irrevocable Trust fbo a minor child (“2012 Trust”), Robin Elizabeth Bradley, individually and as trustee of the 2012 Trust, Stephen McBay Bradley, and Mark Read Bradley, all of Groesbeck, Texas; to join the Bradley Family Group, a group acting in concert to retain voting shares of Groesbeck Bancshares, Inc., and indirectly retain voting shares of Farmers State Bank, both of Groesbeck, Texas.

In addition, Lindsey Bradley Hale, Mansfield, Texas, and Benjamin Bradley, Tampa Bay, Florida; to join the Bradley Family Group and acquire voting shares of Groesbeck Bancshares, Inc., and indirectly acquire voting shares of Farmers State Bank.

Board of Governors of the Federal Reserve System, April 6, 2021.
Michele Taylor Fennell,
Deputy Associate Secretary of the Board.

[FR Doc. 2021-07347 Filed 4-8-21; 8:45 am]

BILLING CODE P